NUCLEAR REGULATORY COMMISSION

[EA-01-082 and EA-04-172]

In the Matter of: Williams Industrial Services Group, LLC, 2076 West Park Place, Stone Mountain, GA 30087; Confirmatory Order (Effective Immediately)

Williams Industrial Services Group, LLC, (Williams) and its subsidiaries (collectively known as Williams Group) perform services for multiple reactor facilities regulated by the U.S. Nuclear Regulatory Commission (NRC or Commission). Williams assumed the contractual obligations of Williams Service Group, LLC, formerly known as Williams Power Corporation (WPC), relating to services performed for NRC licensees. Williams' headquarters are located in Stone Mountain, Georgia.

On May 22, 2000, the NRC's Office of Investigations (OI) began an investigation into alleged employment discrimination, during March 2000, by WPC at FirstEnergy Nuclear Operating Company's (FENOC) Perry and Davis-Besse Nuclear Power Plants. A predecisional enforcement conference (PEC) was held with FENOC and WPC at the NRC Region III office on September 26, 2001. Subsequent to the PEC, a supplemental investigation was conducted by OI Report No. 3-2000-025S and an apparent violation concerning the completeness and accuracy of information was identified during that investigation.

On February 24, 2005, the NRC staff issued Notices of Violation (Notices) to FENOC and to WPC. The NRC also issued an order on February 25, 2005, to the supervisor prohibiting involvement in NRC-licensed activities for three years for deliberately providing materially inaccurate information to the NRC in violation of 10 CFR 50.5(a)(2). The Notice to WPC described violations of 10 CFR 50.7, “Employee protection,” for discrimination and of 10 CFR 50.5(a)(2), “Deliberate misconduct,” for deliberate inaccurate statements to the NRC. The NRC also informed WPC that FENOC had been offered an opportunity to pursue resolution of the 10 CFR 50.7 violation with alternative dispute resolution (ADR). In ADR, a neutral mediator with no decision-making authority facilitates discussions between concerned parties to assist them in reaching an agreement on resolving concerns. If FENOC had elected to enter into ADR, the NRC would have offered WPC an opportunity to participate. FENOC did not elect to enter into ADR, and on March 28, 2005, FENOC admitted to the 10 CFR 50.7 violation.

In a letter dated March 25, 2005, Williams Service Group, LLC (WSG) disputed the violations cited against WPC. On April 15, 2005, WSG requested an opportunity to enter into ADR with the NRC in order to resolve the violations cited in the Notice. The NRC granted the request, and on July 26, 2005, the NRC and WSG met at NRC Headquarters in Rockville, Maryland, at which time a settlement was reached.

Based upon the corrective actions taken as documented in the WSG letter dated March 25, 2005, and the commitments noted in Section IV below, the NRC hereby withdraws the 10 CFR 50.5(a)(2) violation cited against WPC on February 24, 2005. In addition, the 10 CFR 50.7 violation, originally issued as severity level III, is hereby re-characterized as a violation without severity level specified.

By letter dated March 25, 2005, and as further discussed during the July 26, 2005, ADR meeting, Williams stated that it already had taken steps to enhance awareness of and compliance with its safety conscious work environment (SCWE) program at NRC-license facilities. These completed actions include: (1) Enacting a new SCWE policy approved by the Williams Board of Directors in August 2002, (2) ensuring that new employees receive site-specific information on Williams' SCWE policy as well as ways to raise safety concerns to Williams supervision, licensees and the NRC, and (3) conducting more-detailed SCWE training sessions to employees facilitated by Williams' senior management. Furthermore, by letter dated September 2, 2005, Williams stated that, in addition to the actions already taken to enhance awareness of and compliance with its SCWE program, Williams agrees to take certain additional corrective measures as noted in Section IV of this Confirmatory Order.

On October 25, 2005, Williams consented to the NRC issuing this Confirmatory Order with the commitments, as described in Section IV below. Williams further agreed in its October 28, 2005, letter that this Order is to be effective upon issuance and that it has waived its right to a hearing. The NRC has concluded that its concerns can be resolved through NRC's confirmation of the commitments as outlined in this Order.

I find that Williams' commitments as set forth in Section IV are acceptable and necessary and conclude that with these commitments the public health and safety are reasonably assured. In view of the foregoing, I have determined that the public health and safety require that the Williams' commitments be confirmed by this Order. Based on the above and the Williams' consent, this Order is immediately effective upon issuance. Williams is required to provide the NRC with a letter summarizing its actions by no later than eight months from the date of the Confirmatory Order.

Accordingly, pursuant to Sections 103, 161b, 161i, 161o, 182, and 186 of the Atomic Energy Act of 1954, as amended, and the Commission's regulations in 10 CFR 2.202 and 10 CFR Part 50, It is hereby ordered, effective immediately, that:

By no later than six months from the date of issuance of the Confirmatory Order, unless otherwise stated, Williams Industrial Services Group, LLC, will:

1. Broadly communicate throughout Williams Group the false statement issue and its consequences, including the consequences to the involved WPC Site Supervisor.

2. Modify its existing “Ethics Policy” to include an explicit reference to the necessity for complete and candid communications with government agencies.

3. Incorporate the revised Ethics Policy into all future SCWE training by Williams Group.

4. Require its General Counsel to conduct a comprehensive review of industry SCWE “best practices” and compare these practices with the existing Williams Group program in order to ensure that the Williams Group program incorporates industry trends and developments.

5. Continue its existing SCWE training program and train all Williams Group supervisory and management level employees involved in nuclear work. The training program will incorporate both 10 CFR 50.5 and 10 CFR 50.7 awareness. Additionally, Williams will ensure that on-site employees are provided SCWE training either from the licensee or from the Williams Group site project manager upon badging at a licensed facility.

6. Engage an independent auditor to perform an audit of Williams Group's SCWE training, within 12 months of issuance of the Confirmatory Order and every year thereafter for a total of three years, in order to ensure the effectiveness of the SCWE program. At the conclusion of the three years independent audit cycle, Williams Group will institute internal audits, as described in item #7 below.

7. Require that Williams internal auditing function conduct annual audits of the SCWE training program in order to ensure and verify that all Williams Group managers, supervisors and contractor employees receive and acknowledge SCWE, 10 CFR 50.5, and 10 CFR 50.7 training.

8. Ensure that the results of each audit are provided to senior Williams Group management for appropriate action, and that the results of both the independent audit and subsequent Williams' analysis and/or actions are made available to the Commission for review upon request. Towards this end, Williams will notify the Commission when the audits and management responses are complete and documented.

9. Designate a manager whose responsibilities include overall administration of the SCWE program. This manager will be responsible for ensuring that the program is being communicated to all Williams Group site and contract employees, the program is up-to-date and incorporates best practices, the audits described above take place as scheduled, results of audits are communicated to senior management, and appropriate followup is performed and corrective actions are taken based upon the audit findings. This manager will report directly to the Williams president for these SCWE activities.

10. Require its General Counsel to review employment practices as they relate to SCWE policy, in order to ensure that all Williams Group employment practices are consistent with 10 CFR 50.7.

11. Modify its performance appraisal system to ensure that performance appraisals for Williams Group site supervisors/project managers at NRC-licensed facilities include a rating factor that addresses implementation of the SCWE program.

The Director, Office of Enforcement, may relax or rescind, in writing, any of the above conditions upon a showing by Williams Industrial Services Group, LLC, of good cause.

Any person adversely affected by this Confirmatory Order, other than Williams Industrial Services Group, LLC, may request a hearing within 20 days of its issuance. Where good cause is shown, consideration will be given to extending the time to request a hearing. A request for extension of time must be made in writing to the Director, Office of Enforcement, U.S. Nuclear Regulatory Commission, Washington, DC 20555, and include a statement of good cause for the extension. Any request for a hearing shall be submitted to the Secretary, U.S. Nuclear Regulatory Commission, ATTN: Rulemakings and Adjudications Staff, Washington, DC 20555. Copies also shall be sent to the Director, Office of Enforcement, U.S. Nuclear Regulatory Commission, Washington, DC 20555, to the Assistant General Counsel for Materials Litigation and Enforcement at the same address, to the Regional Administrator, NRC Region III, 2443 Warrenville Road, Suite 210, Lisle, IL 60532-4351, and to Williams Group. Because of potential disruptions in delivery of mail to United States Government Offices, it is requested that requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person requests a hearing, that person shall set forth with particularity the manner in which his interest is adversely affected by this Order and shall address the criteria set forth in 10 CFR 2.309(d) and (f).

If a hearing is requested by a person whose interest is adversely affected, the Commission will issue an Order designating the time and place of any hearing. If a hearing is held, the issue to be considered at such hearing shall be whether this Confirmatory Order should be sustained.

In the absence of any request for hearing, or written approval of an extension of time in which to request a hearing, the provisions specified in Section IV above shall be final 20 days from the date of this Order without further order or proceedings. If an extension of time for requesting a hearing has been approved, the provisions specified in Section IV shall be final when the extension expires if a hearing request has not been received. An answer or a request for hearing shall not stay the immediate effectiveness of this order.

For the Nuclear Regulatory Commission.
Dated this 15th day of November, 2005.
Michael R. Johnson,
Director, Office of Enforcement.

[FR Doc. E5-6450 Filed 11-22-05; 8:45 am]

BILLING CODE 7590-01-P